DEPARTMENT OF VETERANS AFFAIRS

Annual Pay Ranges for Physicians and Dentists of the Veterans Health Administration (VHA)

Correction

In notice document 07-2401 beginning on page 27637 in the issue of Wednesday, May 16, 2007, make the following correction:

On page 27638, in the third column, in Pay Table 7.—Covered Clinical Specialties, “Orthopedic Surgery” should be inserted above “Radiology (Interventionalist)”.

[FR Doc. C7-2401 Filed 5-24-07; 8:45 am]

BILLING CODE 1505-01-D